DEPARTMENT OF STATE

[Public Notice: 9712]

U.S. Department of State Advisory Committee on Private International Law (ACPIL): Public Meeting on the Extension of the Cape Town Convention to Agricultural, Construction, and Mining Equipment

The Office of the Assistant Legal Adviser for Private International Law, Department of State, gives notice of a public meeting to discuss upcoming negotiations in UNIDROIT (the International Institute for the Unification of Private Law) to develop a new Protocol to the Cape Town Convention on International Interests in Mobile Equipment. The public meeting will take place on Tuesday, October 25, 2016, from 10:00 a.m. until 1:00 p.m. EDT. This is not a meeting of the full Advisory Committee.

The Cape Town Convention provides an international framework for the creation, registration, and enforcement of security interests in mobile equipment; separate Protocols are needed to apply the framework to specific types of equipment. The United States is a party to the Convention and to the first Protocol, which covers aircraft. UNIDROIT is now developing a new Protocol that will extend the Convention to cover agricultural, construction, and mining equipment. An UNIDROIT Study Group has developed a draft of the new Protocol that will serve as the basis for the negotiations in the Committee of Governmental Experts starting in March 2017. Documents for this project are available at http://www.unidroit.org/work-in-progress-studies/current-studies/mac-protocol.

The purpose of the public meeting is to obtain the views of concerned stakeholders on the draft Protocol being developed by UNIDROIT. Those who cannot attend but wish to comment are welcome to do so by email to Tim Schnabel at SchnabelTR@state.gov.

TIME AND PLACE: The meeting will take place from 10:00 a.m. until 1:00 p.m. on October 25, 2016, in room 6421, Harry S Truman Building, 2201 C Street NW., Washington, DC 20520. Participants should plan to arrive at the C Street entrance by 9:30 a.m. for visitor screening and will be escorted to the conference room. If you are unable to attend in person and would like to participate from a remote location, teleconferencing will be available.

PUBLIC PARTICIPATION: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than October 17, 2016. Requests made after that date will be considered, but might not be able to be fulfilled. If you would like to participate by telephone, please email pil@state.gov to obtain the call-in number and other information. We ask that each person who intends to participate by telephone notify us directly so that we may ensure that we have adequate dial-in capacity.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at https://foia.state.gov/_docs/SORN/State-36.pdf for additional information.

Dated: August 31, 2016.
Timothy R. Schnabel,
Attorney-Adviser, Office of Private International Law, Office of Legal Adviser, Department of State.

[FR Doc. 2016-21980 Filed 9-12-16; 8:45 am]

BILLING CODE 4710-08-P